DEPARTMENT OF LABOR

Office of the Secretary

Submission for OMB Review: Comment Request

January 18, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: Bridget Dooling, OMB Desk Officer for the Employment Standards Administration (ESA), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension without change of currently approved collection.

Title: Certification of Funeral Expenses.

OMB Control Number: 1215-0027.

Form Number: LS-265.

Estimated Number of Respondents: 195.

Total Estimated Annual Burden Hours: 49.

Total Estimated Cost Burden: $86.

Affected Public: Private Sector: Business or other for-profits.

Description: The Form LS-265 is used to report funeral expenses payable under section 9(a) of the Longshore and Harbor Workers' Act [ 33 U.S.C. 909].

Agency: Employment Standards Administration.

Type of Review: Revision of currently approved collection.

Title: Comparability of Current Work to Coal Mine Employment.

OMB Control Number: 1215-0056.

Form Numbers: CM-913 (the Forms CM-918 and CM-1093 are being discontinued).

Estimated Number of Respondents: 1,350.

Total Estimated Annual Burden Hours: 675.

Total Estimated Cost Burden: $594.

Affected Public: Individuals or households.

Description: Once a miner has been identified as having performed non-coal mine work subsequent to coal mine employment, the miner or the miner's survivor is asked to complete a Form CM-913. The Form is used to compare the physical demands of the miner's coal mine work with last or current non-coal mine work. This employment information, together with medical information, is used to establish whether the miner is totally disabled due to black lung disease caused by coal mine employment, a criterion for entitlement of benefits. Information collected on the Form CM-913 helps DOL to determine if the miner has or had a reduced ability to perform his usual and customary coal mine work. The Black Lung Benefits Act, as amended, 30 U.S.C. 901 et. seq. and 20 CFR 718.204(b)(1) necessitate the collection of this information.

Darrin A. King,
Acting Departmental Clearance Officer.

[FR Doc. E8-1291 Filed 1-24-08; 8:45 am]

BILLING CODE 4510-CK-P